DEPARTMENT OF THE TREASURY

Submission for OMB Review; Comment Request

March 27, 2009.

The Department of the Treasury will submit the following public information collection requirement(s) to OMB for review and clearance under the Paperwork Reduction Act of 1995, Public Law 104-13, on or after the publication date of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before May 1, 2009 to be assured of consideration.

Bureau of Public Debt (BPD)

OMB Number: 1535-0036.

Type of Review: Extension.

Title: Application by Voluntary Guardian of Incapacitated Owner of United States Savings Bonds/Notes.

Forms: PDF-2513.

Description: Used by voluntary guardian of incapacitated bond owner(s) to establish right to act on behalf of owner.

Respondents: Individuals or Households.

Estimated Total Burden Hours: 2,600 hours.

OMB Number: 1535-0013.

Type of Review: Extension.

Title: Claim For Lost, Stolen or Destroyed U.S. Savings Bonds and Supplemental Statement For U.S. Securities.

Forms: PD-F-1048, PD-F-2243.

Description: Used by owner or others having knowledge to request substitute securities or payment of lost, stolen or destroyed securities.

Respondents: Individuals or Households.

Estimated Total Burden Hours: 26,400 hours.

Clearance Officer: Brian Lallemont (304) 480-8150, Bureau of the Public Debt, 200 Third Street, Parkersburg, West Virginia 26106.

OMB Reviewer: Shagufta Ahmed (202) 395-7873, Office of Management and Budget, Room 10235, New Executive Office Building, Washington, DC 20503.

Celina Elphage,
Treasury PRA Clearance Officer.

[FR Doc. E9-7245 Filed 3-31-09; 8:45 am]

BILLING CODE 4810-39-P